DEPARTMENT OF THE TREASURY

Submission for OMB Review; Comment Request

April 6, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 13, 2009 to be assured of consideration.

Financial Crimes Enforcement Network (FinCEN)

OMB Number: 1506-0029.

Type of Review: Extension.

Title: Suspicious Activity Report by Insurance Companies.

Form: 108.

Description: 31 CFR 103.16 requires insurance companies to report suspicious activities to the Financial Crimes Enforcement Network. FinCEN Form 108 is an aid to this required reporting providing the filer with a guide in completing this reporting requirement.

Respondents: Businesses or other for-profits.

Estimated Total Reporting Burden: 14,400 hours.

Clearance Officer: Russell Stephenson, (202) 354-6012, Department of the Treasury, Financial Crimes Enforcement Network, P.O. Box 39, Vienna, VA 22183.

OMB Reviewer: Shagufta Ahmed, (202) 395-7873, Office of Management and Budget, Room 10235, New Executive Office Building, Washington, DC 20503.

Celina Elphage,
Treasury PRA Clearance Officer.

[FR Doc. E9-8306 Filed 4-10-09; 8:45 am]

BILLING CODE 4810-02-P